ENVIRONMENTAL PROTECTION AGENCY

[FRL-7790-2]

Notice of Availability of the “Draft Model Application/Information Request for CERCLA Service Station Dealer Exemption” Under Section 114(c) of the Comprehensive Environmental Response, Compensation and Liability Act (CERCLA)

AGENCY: Environmental Protection Agency.

ACTION: Notice of availability.

SUMMARY: The U.S. Environmental Protection Agency (EPA) is announcing the availability for review and comment of the draft document entitled “Draft Model Application/Information Request for CERCLA Service Station Dealer Exemption.”

DATES: Comments on the “Draft Model Application/Information Request for CERCLA Service Station Dealer Exemption” must be received by August 13, 2004.

ADDRESSES: Comments may be sent by e-mail to boushell.susan@epa.gov, mailed to Susan Boushell, Office of Site Remediation Enforcement (Mail Code 2273A), U.S. Environmental Protection Agency, 1200 Pennsylvania Avenue, NW., Washington, DC 20006, or delivered to Susan Boushell, Ariel Rios South Building, 1200 Pennsylvania Avenue, NW., Room 6233Q, Washington, DC 20006, (202) 564-2173.

FOR FURTHER INFORMATION CONTACT: Susan Boushell, EPA's Office of Site Remediation Enforcement, (202) 564-2173 or boushell.susan@epa.gov.

SUPPLEMENTARY INFORMATION: On February 3, 2004 (29 FR 5147), EPA published a notice of availability for public comment on the “Draft Model CERCLA Application/Information Request for Service Station Dealers.” In response to comments received, EPA revised the draft model and is making the revised draft model available for public comment. The revised draft model, entitled “Draft Model Application/Information Request for CERCLA Service Station Dealer Exemption,” will be available on the Internet at http://www.epa.gov/compliance/resources/policies/cleanup/superfund/ssde-draftmod-appinfo.pdf. For more information about the draft model, please see the February 3rd Federal Register notice.

Dated: July 13, 2004.
Elliott Gilberg,
Deputy Director, Office of Site Remediation Enforcement.

[FR Doc. 04-16452 Filed 7-19-04; 8:45 am]

BILLING CODE 6560-50-P